FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than August 2, 2012.

A. Federal Reserve Bank of Richmond (Adam M. Drimer, Assistant Vice President) 701 East Byrd Street, Richmond, Virginia 23261-4528:

1. Zahid Aslam, Elkton, Maryland; Michael Khatiwala, Voorhees, New Jersey; Michael Knapp, Lincoln University, Pennsylvania; Nalin Patel and Arpan Patel, both of Newtown, Pennsylvania; and Raj Parikh, Monroe, New Jersey, as a group acting in concert, to acquire voting shares of Rising Sun Bancorp, and thereby indirectly acquire voting shares of NBRS Financial Bank, both in Rising Sun, Maryland.

B. Federal Reserve Bank of San Francisco (Kenneth Binning, Vice President, Applications and Enforcement) 101 Market Street, San Francisco, California 94105-1579:

1. Timothy James McMahon, Poulsbo, Washington; to acquire additional voting shares of Prime Pacific Financial Services, Inc., and thereby indirectly acquire additional voting shares of Prime Pacific Bank, National Association, both in Lynnwood, Washington.

Board of Governors of the Federal Reserve System, July 13, 2012.
Jennifer J. Johnson,
Secretary of the Board.

[FR Doc. 2012-17480 Filed 7-17-12; 8:45 am]

BILLING CODE 6210-01-P